DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on September 22, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On September 22, 2025, OFAC determined that the property and interests in property subject to U.S. jurisdiction of the following persons are blocked under the relevant sanctions authorities listed below.

Individual

1. BARCI DE MORAES, Viviane (a.k.a. BARCI, Viviane), Brazil; DOB 16 Jan 1969; POB Sao Paulo, Brazil; nationality Brazil; Gender Female; National ID No. 208841180 (Brazil); Diplomatic Passport DC000886 (Brazil) (individual) [GLOMAG] (Linked To: LEX—INSTITUTO DE ESTUDOS JURIDICOS LTDA).

Designated pursuant to section 1(a)(ii)(C)(2) of Executive Order 13818 of December 20, 2017, “Blocking the Property of Persons Involved in Serious Human Rights Abuse or Corruption,” (E.O. 13818), for being a foreign person who is or has been a leader or official of, LEX—INSTITUTO DE ESTUDOS JURIDICOS LTDA, an entity whose property and interests in property are blocked pursuant to this order as a result of activities related to the leader's or official's tenure.

Entity

1. LEX—INSTITUTO DE ESTUDOS JURIDICOS LTDA, Rua Campos Bicudo, 98, Floor 9, Suite 1, Room 3, Jardim Europa, Sao Paulo 04536-010, Brazil; Organization Established Date 01 Jun 2000; Organization Type: Activities of holding companies; Registration Number 03850784000135 (Brazil) [GLOMAG] (Linked To: DE MORAES, Alexandre).

Designated pursuant to section 1(a)(iii)(A)(2) of E.O. 13818, for being a person who has materially assisted, sponsored, or provided financial, material, or technological support for, or goods or services to or in support of, ALEXANDRE DE MORAES, a person whose property and interests in property are blocked pursuant to this order.

Bradley T. Smith,
Director, Office of Foreign Assets Control.

[FR Doc. 2025-18627 Filed 9-24-25; 8:45 am]

BILLING CODE 4810-AL-P